DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On December 14, 2018, OFAC determined that the property and interests in property subject to U.S. jurisdiction of the following persons are blocked under the relevant sanctions authorities listed below.

Individuals

1. DIMITRY, Gregory Vasili (a.k.a. ADUOL, Gregory Deng Kuac; a.k.a. KUAC, Gregory Deng; a.k.a. KUACH, Gregory Deng; a.k.a. YALOURIS, Gregory Vasilis Dimitry), Juba, South Sudan; DOB 01 Jan 1961; POB Ajogo, South Sudan; nationality South Sudan; Gender Male (individual) [SOUTH SUDAN].

Designated pursuant to Section 1(a)(i)(A) of Executive Order 13664 of April 3, 2014, “Blocking Property of Certain Persons With Respect to South Sudan” (E.O. 13664) for being responsible for or complicit in, or having engaged in, directly or indirectly, in or in relation to South Sudan, actions or policies that threaten the peace, security, or stability of South Sudan.

2. ZIV, Israel (a.k.a. ZILBERSTEIN, Israel Baruch; a.k.a. ZIV, Israel Baruch; a.k.a. ZIV, Yisrael), Haela 16, Har Hadar, Israel; Haela 40, Har Adar, Israel; DOB 06 Jul 1957; nationality Israel; Gender Male; Passport 29037166 (Israel); National ID No. 5490537 (individual) [SOUTH SUDAN].

Designated pursuant to Section 1(a)(ii) of E.O. 13664 for being a leader of an entity that has, or whose members have, engaged in actions or policies that have the purpose or effect of expanding or extending the conflict in South Sudan or obstructing reconciliation or peace talks or processes.

3. OLAWO, Obac William (a.k.a. OLAH, Ubac William; a.k.a. OLAU, Obaj William), South Sudan; DOB 01 Jan 1962; POB Malakal, South Sudan; Gender Male; Passport M6200000021304 (South Sudan) (individual) [SOUTH SUDAN].

Designated pursuant to Section 1(a)(ii) of E.O. 13664 for being a leader of an entity that has, or whose members have, engaged in actions or policies that have the purpose or effect of expanding or extending the conflict in South Sudan or obstructing reconciliation or peace talks or processes.

Entities

4. GLOBAL IZ GROUP LTD (a.k.a. ZIV HG LTD), 7 Metzada, Bnei Brak 5126112, Israel; Business Registration Number 514033703 (Israel) [SOUTH SUDAN] (Linked To: ZIV, Israel).

Designated pursuant to Section 1(a)(iv) of E.O. 13664 for being owned or controlled by, or having acted or purported to act for or on behalf of, directly or indirectly, Israel Ziv, a person whose property and interests in property are blocked pursuant to E.O. 13664.

5. GLOBAL LAW ENFORCEMENT AND SECURITY LTD (a.k.a. “GLS”), 2 Granit, Petah Tikva 4951446, Israel; Business Registration Number 514151331 (Israel) [SOUTH SUDAN] (Linked To: GLOBAL N.T.M LTD).

Designated pursuant to Section 1(a)(iv) of E.O. 13664 for being owned or controlled by, or having acted or purported to act for or on behalf of, directly or indirectly, GLOBAL N.T.M LTD, a person whose property and interests in property are blocked pursuant to E.O. 13664.

6. GLOBAL N.T.M LTD (a.k.a. CST GLOBAL; a.k.a. GLOBAL CST; a.k.a. “GLOBAL GROUP”; a.k.a. “GREEN HORIZON”), 11 Granit Street, P.O. Box 3111, Petach-Tikva 49514, Israel; 2 Granit, Petah Tikva 4951446, Israel; Business Registration Number 513884569 (Israel) [SOUTH SUDAN] (Linked To: ZIV, Israel).

Designated pursuant to Section 1(a)(iv) of E.O. 13664 for being owned or controlled by, or having acted or purported to act for or on behalf of, directly or indirectly, Israel Ziv, a person whose property and interests in property are blocked pursuant to E.O. 13664.

7. AFRICANA GENERAL TRADING LTD, Plot No. 297, Block BYVI, 3rd Floor Office No. 33, Juba, South Sudan [SOUTH SUDAN] (Linked To: OLAWO, Obac William).

Designated pursuant to Section 1(a)(iv) of E.O. 13664 for being owned or controlled by, Obac William Olawo, a person whose property and interests in property are blocked pursuant to E.O. 13664.

8. CROWN AUTO TRADE (a.k.a. CROWN AUTO TRADING; a.k.a. CROWN AUTOMOBILES), Havana Street, Juba, South Sudan [SOUTH SUDAN] (Linked To: OLAWO, Obac William).

Designated pursuant to Section 1(a)(iv) of E.O. 13664 for being owned or controlled by, Obac William Olawo, a person whose property and interests in property are blocked pursuant to E.O. 13664.

9. GOLDEN WINGS AVIATION, Juba, South Sudan; Wau, South Sudan; Regency Hotel, Ground Floor, Khartoum, Sudan; Rumbek, South Sudan; Awel Grand Market, Awel, South Sudan; Yida Grand Market, Yida, South Sudan; Asmara, Eritrea [SOUTH SUDAN] (Linked To: OLAWO, Obac William).

Designated pursuant to Section 1(a)(iv) of E.O. 13664 for being owned or controlled by, Obac William Olawo, a person whose property and interests in property are blocked pursuant to E.O. 13664.

Dated: December 14, 2018.
Andrea Gacki,
Director, Office of Foreign Assets Control.

[FR Doc. 2018-27534 Filed 12-19-18; 8:45 am]

BILLING CODE 4810-AL-P